DEPARTMENT OF TRANSPORTATION

Federal Transit Administration

49 CFR Part 625

[Docket No. FTA-2025-0007]

RIN 2132-AB56

Transit Asset Management

AGENCY: Federal Transit Administration (FTA), Department of Transportation (DOT).

ACTION: Final rule.

SUMMARY: This rulemaking revises FTA's Transit Asset Management (TAM) regulation to remove the initial TAM Plan implementation deadline, as this deadline has passed.

DATES: This final rule is effective on July 1, 2025.

FOR FURTHER INFORMATION CONTACT: Heather Ueyama, Office of Chief Counsel, (202) 366-7374 or heather.ueyama@dot.gov. Office hours are from 8:30 a.m. to 5 p.m., Monday through Friday, except Federal holidays.

SUPPLEMENTARY INFORMATION:

I. Background

Congress directed FTA to establish a national TAM system in section 20019 of the Moving Ahead for Progress in the 21st Century Act (Pub. L. 112-141 (2012), codified at 49 U.S.C. 5326. On July 26, 2016, FTA issued a final rule that added part 625, “Transit Asset Management” to title 49 of the Code of Federal Regulations (81 FR 48962). Part 625 requires public transportation providers to develop and implement TAM plans to improve the state of good repair of their capital assets. The regulation also defines the term “state of good repair” and establishes related standards and performance measures.

II. Discussion of the Changes

In this action, FTA is removing section 625.31 from the TAM regulation. This section established an implementation deadline for transit providers to complete their initial TAM plan. Pursuant to section 625.31(a), a transit provider's initial TAM plan must have been completed no later than two years after October 1, 2016. Section 625.31(b) allowed providers to submit to FTA a written request to extend this initial implementation deadline. Given that the deadline passed nearly seven years ago, FTA has determined that this provision is no longer necessary and that it is appropriate for FTA to remove it from the regulation. This action will reduce regulatory burden by eliminating an outdated and unnecessary provision from the TAM regulation.

III. Good Cause for Dispensing With Notice and Comment and Delayed Effective Date

Under the Administrative Procedure Act (APA) (5 U.S.C. 553(b)(B)), an agency may waive the normal notice and comment procedure if it finds, for good cause, that it is impracticable, unnecessary, or contrary to the public interest. Additionally, 5 U.S.C. 553(d) provides that an agency may waive the 30-day delayed effective date upon finding of good cause. As noted above, the initial TAM plan implementation deadline passed on October 1, 2018. This provision therefore is outdated and unnecessary. Removing it will have no substantive legal effect or impact on the status quo.

Accordingly, FTA finds good cause that notice and comment for this rule is unnecessary due to the nature of the revisions (i.e., the rule will have no substantive impact on FTA requirements). For the same reasons, FTA finds that the delayed effective date is unnecessary. Accordingly, FTA finds good cause under 5 U.S.C. 553(b)(B) and (d)(3) to waive notice and opportunity for comment and the delayed effective date.

IV. Regulatory Analyses and Notices

A. Executive Orders 12866 and 13563 (Regulatory Review)

E.O. 12866 (“Regulatory Planning and Review”), as supplemented by E.O. 13563 (“Improving Regulation and Regulatory Review”), directs Federal agencies to assess the benefits and costs of regulations and to select regulatory approaches that maximize net benefits when possible. OMB has determined the rule is not significant within the meaning of E.O. 12866 and has not reviewed the rule under that order.

The rule removes an outdated reference to the initial Transit Asset Management (TAM) plan implementation deadline. Although the change does not affect current requirements for regulated entities, improving the clarity of the provisions could reduce the time needed for regulated entities to understand TAM plan timelines and procedures, resulting in minor and unquantified cost savings.

B. Executive Order 14192 (Deregulatory Action)

E.O. 14192 (“Unleashing Prosperity Through Deregulation”) requires that for “each new [E.O. 14192 regulatory action] issued, at least ten prior regulations be identified for elimination.” Implementation Guidance for E.O. 14192, issued by OMB (Memorandum M-25-20, March 25, 2025) defines an E.O. 14192 deregulatory action as “an action that has been finalized and has total costs less than zero.” This proposed rule, if finalized, is expected to have total costs less than zero, and therefore is expected to be an E.O. 14192 deregulatory action.

C. Regulatory Flexibility Act

The Regulatory Flexibility Act of 1980 (5 U.S.C. 601 et seq.) requires Federal agencies to assess the impact of a regulation on small entities unless the agency determines that the regulation is not expected to have a significant economic impact on a substantial number of small entities. The rule removes an outdated reference to the initial TAM plan implementation deadline but does not change current requirements for regulated entities. Therefore, FTA certifies that the rule will not have a significant effect on a substantial number of small entities.

D. Unfunded Mandates Reform Act of 1995

FTA has determined this rule would not impose unfunded mandates, as defined by the Unfunded Mandates Reform Act of 1995 (Pub. L. 104-4). This rule does not include a Federal mandate that may result in expenditures of $100 million or more in any one year, adjusted for inflation, by State, local, and tribal governments in the aggregate or by the private sector.

E. Executive Order 13132 (Federalism Assessment)

E.O. 13132 (“Federalism”) requires agencies to assure meaningful and timely input by State and local officials in the development of regulatory policies that may have a substantial direct effect on the States, on the relationship between the national government and the States, or on the distribution of power and responsibilities among the various levels of government. This action has been analyzed in accordance with the principles and criteria contained in E.O. 13132 dated August 4, 1999, and FTA determined this action will not have a substantial direct effect or sufficient federalism implications on the States. FTA also determined this action will not preempt any State law or regulation or affect the States' ability to discharge traditional State governmental functions.

F. Paperwork Reduction Act

Federal agencies must obtain approval from the Office of Management and Budget (OMB) for each collection of information they conduct, sponsor, or require through regulations. FTA has analyzed this rule under the Paperwork Reduction Act and believes it does not impose additional information collection requirements for the purposes of the Act above and beyond existing information collection clearances from OMB.

G. National Environmental Policy Act

FTA has analyzed this rule for the purposes of the National Environmental Policy Act of 1969 (NEPA). In accordance with 42 U.S.C. 4336 and DOT NEPA Order 5610.1C, FTA has determined that this rule is categorically excluded pursuant to 23 CFR 771.118(c)(4), “[p]lanning and administrative activities that do not involve or lead directly to construction, such as: [p]romulgation of rules, regulations, and directives.” This rulemaking is not anticipated to result in any environmental impacts, and there are no unusual or extraordinary circumstances present in connection with this rulemaking.

H. Executive Order 13175 (Tribal Consultation)

FTA has analyzed this rule under E.O. 13175 (“Consultation and Coordination with Indian Tribal Governments”), and it will not have substantial direct effects on one or more Indian tribes; will not impose substantial direct compliance costs on Indian tribal governments; and will not preempt tribal laws. Therefore, a tribal summary impact statement is not required.

I. Executive Order 13211 (Energy Effects)

FTA has analyzed this action under E.O. 13211 (“Actions Concerning Regulations That Significantly Affect Energy Supply, Distribution, or Use”). FTA has determined this action is not a significant energy action under that order and is not likely to have a significant adverse effect on the supply, distribution, or use of energy. Therefore, a Statement of Energy Effects is not required.

J. Regulation Identifier Number (RIN)

A Regulation Identifier Number (RIN) is assigned to each regulatory action listed in the Unified Agenda of Federal Regulations. The Regulatory Information Service Center publishes the Unified Agenda in April and October of each year. The RIN number contained in the heading of this document can be used to cross-reference this rule with the Unified Agenda.

List of Subjects in 49 CFR Part 625

Mass transportation, Reporting and recordkeeping requirements, Safety.

In consideration of the foregoing, and under the authority of 49 U.S.C. 5326 and 5334, and the delegation of authority at 49 CFR 1.91, the Federal Transit Administration amends 49 CFR part 625 as follows:

PART 625—TRANSIT ASSET MANAGEMENT

1. The authority citation for part 625 continues to read as follows:

Authority: Sec. 20019 of Pub. L. 112-141, 126 Stat. 707, 49 U.S.C. 5326; Sec. 20025(a) of Pub. L. 112-141, 126 Stat, 718; 49 CFR 1.91.

§ 625.31 [Removed and reserved]

2. Remove and reserve § 625.31.

Issued in Washington, DC, under authority delegated in 49 CFR 1.91.
Tariq Bokhari,
Acting Administrator.

[FR Doc. 2025-12140 Filed 6-27-25; 4:15 pm]

BILLING CODE 4910-57-P